DEPARTMENT OF ENERGY

International Energy Agency Meeting

AGENCY: Department of Energy.

ACTION: Notice of meeting.

SUMMARY: The Industry Advisory Board (IAB) to the International Energy Agency (IEA) will meet on November 20, 2001, at the headquarters of the IEA in Paris, France in connection with a meeting of the IEA's Standing Group on Emergency Questions (SEQ).

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Fédération, Paris, France, on November 20, 2001, beginning at approximately 9 a.m. The purpose of this notice is to permit attendance by representatives of U.S. company members of the IAB at a meeting of the IEA's Standing Group on Emergency Questions (SEQ), which is scheduled to be held at the IEA on November 20, including a preparatory encounter among company representatives from approximately 9 a.m. to 9:15 a.m..

The Agenda for the preparatory encounter among company representatives is to elicit views regarding items on the SEQ's Agenda. The Agenda for the SEQ meeting is under the control of the SEQ. It is expected that the SEQ will adopt the following Agenda:

1. Adoption of the Agenda

2. Approval of the Summary Record of the 102nd Meeting

3. IEA Response Plan: Follow-up

4. The SEQ Program of Work

—Draft Program of Work and Budget for 2002

5. Update on Compliance with International Energy Program (IEP) Stockholding Commitments

6. Unavailable Stocks

7. Emergency Response Procedures

—Transition from CERM (Coordinated Emergency Response Measures) to IEP Measures

8. Oil Market, Policy and Legislative Developments in Member Countries

—Accession of Korea

—Japan

—Others

9. The Current Oil Market Situation

—Report on the Oil Market Situation

10. Current IAB Activities

11. Emergency Response Training and Simulation Exercise

—Progress Report on the Emergency Response Training Simulation Exercise 2002 (ERE 2)

12. Joint SEQ/SLT (Standing Group on Long-Term Cooperation) Seminar

—Joint SEQ/SLT Inter-fuels Workshop

13. IEA Word Energy Outlook 2001: Insights

14. Oil Security Developments in Non-Member Countries and International

Organizations

—Developments in Poland and Slovakia

—Report on China

—Stockholding Agencies: ACOMES

—Report on ASEAN and APERC Meeting, Bangkok

—Report on the Seminar on OPEC and Global Energy Balance

—Other Initiatives and Events

15. Emergency Data and Related Issues for Information

—Emergency Reserve and Net Import Situation of IEA Countries on July 1, 2001

—Emergency Reserve Situation of IEA Candidate Countries on July 1, 2001

—Monthly Oil Statistics July 2001

—Base Period Final Consumption 2Q2000/2Q2001

—QOF—4Q2001

—Update of Emergency Contacts List

16. Other Business

—Dates of Next Meetings: March 12-15, 2002; June 25-27, 2002

As provided in section 252(c)(1)(A)(ii) of the Energy Policy and Conservation Act (42 U.S.C. 6272(c)(1)(A)(ii)), this meeting is open only to representatives of members of the IAB and their counsel, representatives of members of the SEQ, representatives of the Departments of Energy, Justice, and State, the Federal Trade Commission, the General Accounting Office, Committees of Congress, the IEA, and the European Commission, and invitees of the IAB, the SEQ, or the IEA.

Issued in Washington, DC, November 7, 2001.
Lee Liberman Otis,
General Counsel.

[FR Doc. 01-28454 Filed 11-13-01; 8:45 am]

BILLING CODE 6450-01-P